ENVIRONMENTAL PROTECTION AGENCY

[FRL-11579-01-R9]

Notice of Availability and Extension of Comment Period for the Preliminary Designation of Certain Stormwater Discharges Within Two Watersheds in Los Angeles County, California Under the National Pollutant Discharge Elimination System of the Clean Water Act

AGENCY: Environmental Protection Agency (EPA).

ACTION: Notice of availability; extension of comment period and correction.

SUMMARY: The Environmental Protection Agency (EPA) Region 9 published a document in the Federal Register on November 2, 2023, soliciting comment on the preliminary designation of stormwater discharges from certain commercial, industrial, and institutional (CII) sites in two watersheds in Los Angeles County, California for regulation under the Clean Water Act (CWA) National Pollutant Discharge Elimination System (NPDES) permitting program. The November 2, 2023 notice of availability contained an incorrect email address for submitting comments which is corrected below and the review and comment period is extended to provide a 60-day public comment period. All other information in the November 2, 2023 notice of availability is correct.

DATES: Written comments must be received on or before January 3, 2024.

FOR FURTHER INFORMATION CONTACT: Eugene Bromley, EPA Region 9, Water Division, NPDES Permits Section; telephone (415) 972-3510; email address: bromley.eugene@epa.gov.

Correction

In the Federal Register of November 2, 2023 in FRL-11427-01-R9, page 75282, first column correct line after ADDRESSES to read:

“ADDRESSES: Comments should be submitted via email to the following address: R9RDA@epa.gov and include “Comments on the 2023 Preliminary Designation” in the subject line.”

Dated: November 22, 2023.
Martha Guzman Aceves,
Regional Administrator, EPA Region 9.

[FR Doc. 2023-26226 Filed 11-28-23; 8:45 am]

BILLING CODE 6560-50-P